DEPARTMENT OF ENERGY

Federal Energy Regulatory Commission

Notice of Commission Staff Attendance

The Federal Energy Regulatory Commission (Commission) hereby gives notice that members of the Commission's staff may attend the following meeting related to the transmission planning activities of the South Carolina Regional Transmission Planning (SCRTP) group:

SCRTP Stakeholder Group

January 15, 2013

The above-referenced meeting is open to stakeholders and will be held at: SCE&G—Lake Murray Training Center, Lexington, SC.

For additional information, see www.scrtp.com.

The discussions at the meeting described above may address matters at issue in the following proceedings:

Docket No. ER13-107-000, South Carolina Electric & Gas Company

For more information, contact Michael Lee, Office of Energy Market Regulation, Federal Energy Regulatory Commission at (202) 502-8658 or Michael.Lee@ferc.gov.

Dated: January 14, 2013.
Kimberly D. Bose,
Secretary.

[FR Doc. 2013-01136 Filed 1-18-13; 8:45 am]

BILLING CODE 6717-01-P